DEPARTMENT OF ENERGY

Western Area Power Administration

Notice of WAPA Loan Determination and Administration; Transmission Infrastructure Program

AGENCY: Western Area Power Administration, DOE.

ACTION: Notice of WAPA loan determination and administration.

SUMMARY: The Western Area Power Administration (WAPA), a Federal power marketing administration of the United States Department of Energy (DOE), will be responsible for the loan determination and administration of loan applications submitted to its Transmission Infrastructure Program (TIP or Program) for use of WAPA's borrowing authority. This Federal Register notice (FRN) announces WAPA's revised role in performing all activities related to loan determination and administration.

DATES: This decision is effective as of August 23, 2021.

FOR FURTHER INFORMATION CONTACT: Ms. Stacey Harris, Transmission Infrastructure Program, Western Area Power Administration, P.O. Box 281213, Lakewood, CO 80228-8213, telephone (720) 962-7710 or email: TIP@wapa.gov.

This notice is available on WAPA's website at: https://www.wapa.gov/FederalRegisterNotices/Pages/federal-register-notices.aspx.

SUPPLEMENTARY INFORMATION: WAPA markets and transmits wholesale hydroelectric power generated at Federal dams across the western United States. WAPA's transmission system was developed to deliver Federal hydroelectric power to preference customers. WAPA owns and operates a transmission system with more than 17,000 circuit-miles of high voltage lines and markets power across 15 western states and a 1.3 million square-mile service area. WAPA's service area encompasses all the following states: Arizona, California, Colorado, Nebraska, Nevada, New Mexico, North Dakota, South Dakota, Utah, and Wyoming; and parts of Iowa, Kansas, Montana, Minnesota, and Texas. WAPA markets excess capacity on its transmission system consistent with the policies and procedures outlined in its Open Access Transmission Tariff (OATT) on file with the Federal Energy Regulatory Commission. WAPA offers nondiscriminatory access to its transmission system, including requests to interconnect new generating resources to its transmission system, under its OATT.

WAPA's TIP implements Section 402 of the America Recovery and Reinvestment Act of 2009 (Pub. L. 111-5), which amended Section 301 of the Hoover Power Plant Act of 1984. The Program uses the authority granted under these statutes to borrow up to $3.25 billion from the U.S. Department of the Treasury to construct, finance, facilitate, plan, operate, maintain, or study construction of new or upgraded electric power transmission lines and related facilities, with at least one terminus within WAPA's service territory. The projects must facilitate the delivery of power generated by renewable energy resources constructed, or reasonably expected to be constructed, demonstrate reasonable expectation of repayment, not adversely affect system reliability or operations and be in the public interest. The Program was announced in 2009 ¹ and revised in 2014.²

¹ 74 FR 22732 (May 14, 2009).

² 79 FR 19065 (April 7, 2014).

The 2014 FRN established WAPA reliance on services and direction provided by DOE's Loan Programs Office (LPO) in setting out the financial terms of the lender-borrower relationship and the LPO would be responsible for administering the Project Finance Phase consisting of underwriting, financing, and loan monitoring and servicing. With the publication of this FRN, WAPA announces it has contracted with external parties to provide support in the performance of these services. The use of contractors provides TIP flexibility in scaling manpower up or down to match increased or decreased Program activities, while avoiding the need to create a fixed staff. Moreover, consistent with upholding the principle set forth in the 2014 FRN, loan applicants shall remain solely responsible for paying all costs associated with a loan.

Signing Authority

This document of the Department of Energy was signed on August 17, 2021, by Tracey A. LeBeau, Interim Administrator, Western Area Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 18, 2021.
Treena V. Garrett,
Federal Register Liaison Officer, U.S. Department of Energy.

[FR Doc. 2021-17997 Filed 8-20-21; 8:45 am]

BILLING CODE 6450-01-P